DEPARTMENT OF AGRICULTURE

Natural Resources Conservation Service

West Tarkio Watershed, Page and Montgomery Counties, IA and Atchison County, MO

AGENCY: Natural Resources Conservation Service, Agriculture.

ACTION: Notice of intent to prepare an Environmental Impact Statement.

SUMMARY: Pursuant to section 102(2)(C) of the National Environmental Policy Act (NEPA) of 1969; the Council on Environmental Quality Guidelines (40 CFR part 1500); and the Natural Resources Conservation Service Guidelines (7 CFR part 650); the Natural Resources Conservation Service, U.S. Department of Agriculture gives notice that an environmental impact statement (EIS) is being prepared for West Tarkio Watershed, Page and Montgomery Counties, Iowa and Atchison County, Missouri.

FOR FURTHER INFORMATION CONTACT: Richard Van Klaveren, State Conservationist, or David Beck, Planning Leader, 210 Walnut Street, 693 Federal Building, Des Moines, IA 50309-2180.

SUPPLEMENTARY INFORMATION: The environmental assessment of this federally assisted action indicates that the project may cause significant local, regional, or national impacts on the environment. As a result of these findings, Richard Van Klaveren, NRCS State Conservationist, has determined that the preparation and review of an environmental impact statement (EIS) is needed for this project.

This project involves the development of a plan to manage, protect, and enhance water and land resources in the West Tarkio Watershed. The watershed project area is 106,000 acres; 71,000 acres in Page and Montgomery Counties in southwest Iowa and 35,000 acres in Atchison County, Missouri. The upper end of the watershed is four miles northeast of Red Oak, Iowa. The City of Tarkio, Missouri, is at the downstream boundary of the project area.

The original sponsors include the three county governments, three county soil and water conservation districts, the city of Tarkio, Missouri, as well as the cities of Clarinda and Shenandoah, Iowa. The sponsors have formed the West Tarkio Watershed Steering Committee to serve as an advisory body for the project. The Steering Committee is made up of representatives from the sponsoring groups plus four local watershed residents.

The sponsors' original objectives are regional water supply including the Cities of Clarinda and Shenandoah, flood damage reduction for the City of Tarkio and agricultural land, water based recreation, grade stabilization of West Tarkio Creek and its tributaries, upland gully and erosion control, and water quality protection.

The NRCS planning assistance is being provided under the authority of the Watershed Protection and Flood Prevention Act, Public Law 83-566. The NRCS has completed studies to determine the extent of natural resource problems and needs in accordance with the sponsors' objectives.

Study results indicate that the sponsor objective of flood damage reduction for the City of Tarkio and agricultural land is not economically feasible. Land voiding and depreciation rates are not high enough to justify grade stabilization dams to control gullies and stream channel erosion. Other federal and state programs can be used to satisfy landowner requests for upland gully and erosion control.

The NRCS studies indicate that the sponsors' objectives of water supply, water based recreation, and water quality protection are likely to be economically feasible. Additional study for these project purposes will be completed.

The original sponsors reconsidered their interest in the project considering the change in project purposes. Remaining sponsors are the Cities of Clarinda and Shenandoah, Iowa, the Page County Soil and Water Conservation District, and the Atchison County Soil and Water Conservation District.

Four study sites on the main channel of West Tarkio Creek, all located in Page County Iowa, were initially identified for possible multiple-purpose reservoir sites. One study site was dropped from further consideration after it was determined not to meet the water supply objective and that it would have more effect on public roads than other alternatives.

Studies indicated each remaining study site could be developed as a multi-purpose water impoundment to provide water based recreation and water supply. Six preliminary alternatives for multiple-purpose reservoirs were developed, two alternatives at each study site. The permanent pool sizes of the six preliminary alternatives ranged from 1100 acres to 1800 acres.

Groundwater was investigated as a water supply source as a result of public comment. NRCS consulted with groundwater experts from the Iowa Geological Survey Bureau of the Iowa Department of Natural Resources and the U.S. Geological Survey Bureau. Generalized sources of groundwater were identified in the area. There was no sponsor support for an alternative plan featuring groundwater because it could not meet the water-based recreation project purpose. In addition, one sponsor had been previously advised that long term, they should seek a surface water supply source to replace their current well fields.

Preliminary alternatives that do not meet the sponsors' objectives will be removed from further study and consideration. Each alterative plan that is carried through detailed planning will be compared against a no action plan as a basis to determine effects. The sponsors will select an alternative plan based on the effects, economic evaluation, and the extent that it meets their objectives. The project will include one multi-purpose reservoir with the purposes of water supply and water-based recreation. Best management practices may be included in the planned project in order to further protect the new surface water supply.

Two open house informational meetings were held in Shenandoah, Iowa on August 19, 2003, to initiate the planning process and obtain public input. State and federal agencies, private organizations, and local individuals were invited to a scoping meeting on February 17, 2004. The public input received from these meetings and at meetings of the West Tarkio Steering Committee will be considered as a draft Environmental Impact Statement is developed. The periodic Steering Committee meetings as well as individual member sponsor meetings are open to the public and provide opportunity for citizen input.

Preliminary issues: Among the issues that the NRCS plans to consider in the scope of the EIS analysis are:

—Environmental, economic, and social impacts of the alternatives. Major categories are listed below.

Soil erosion | Prime farmland
Flooding | Agricultural/other rural land
Recreation | Threatened and endangered species
Water quantity/supply | Wetlands
Water quality | Wildlife habitat
Cultural resources | Air quality

—Costs and benefits of the alternatives.

The West Tarkio draft EIS will be developed and published in the Federal Register with a target date of October 20, 2005. A 45-day comment period will be available for the public to provide comments. A 30 day comment period will be available following publication of the final EIS. A meeting will be held in the Shenandoah area near the date of the draft EIS publication to inform the public about the draft watershed plan-EIS and to obtain comments.

The draft watershed plan-EIS will be prepared and circulated for review by agencies and the public. This review will be conducted concurrently with the publication of the draft EIS in the Federal Register. The Natural Resources Conservation Service invites participation and consultation of public agencies, any affected Indian tribe, and individuals that have special expertise, legal jurisdiction, or interest in providing data for consideration in preparing the draft EIS. Comments and other inputs received will be considered in plan development. Further information on the proposed action may be obtained from David Beck, Planning Leader, at the above address.

Dated: April 12, 2005.
Richard Van Klaveren,
State Conservationist.

[FR Doc. 05-7921 Filed 4-19-05; 8:45 am]

BILLING CODE 3410-16-P